DEPARTMENT OF AGRICULTURE

Forest Service

Idaho Panhandle National Forests, Bonners Ferry Ranger District, Cancellation of Notice of Intent To Prepare an Environmental Impact Statement for the Bonners Ferry Ranger District Salvage Sales Project

AGENCY: Forest Service, USDA

ACTION: Cancellation notice.

SUMMARY: On May 31, 2000 a Notice of Intent (NOI) to prepare an environmental impact statement for the Bonners Ferry Ranger District Salvage Sales Project was published in the Federal Register (Volume 65, Number 105, pages 34654-34655). The proposal was to analyze the potential environmental effects of salvage harvesting up to 20,000 acres of dead and damaged trees in scattered areas located on the Bonners Ferry Ranger District, Idaho Panhandle National Forests. Since the publication of the Notice of Intent, public scoping and interdisciplinary team involvement have resulted in a project design that utilizes mitigation measures and restrictive design criteria that either eliminated or minimized potential impacts to resources that could result from the small salvage sales. Due to the redefined design and criteria of the project, the Interdisciplinary Team determined there will be no significant effects resulting from implementing the proposed action, therefore preparation of an environmental impact statement is not warranted.

ADDRESSES: Bonners Ferry Ranger District, 6286 Main St, Bonners Ferry, Idaho 83805-9764

FOR FURTHER INFORMATION CONTACT: Barry Wynsma, Project Team Leader, (208) 267-5561.

SUPPLEMENTARY INFORMATION: The public was first notified of this proposal and the intention to prepare an environmental impact statement in October 1999. The Bonners Ferry Ranger District of the Idaho Panhandle National Forests proposed salvage harvesting up to 20,000 acres of dead and damaged trees in scattered areas across the district. The small-scale salvage sales were expected to contribute to hazardous fuels reduction and to help restore productive stand conditions and/or ecological functioning in areas affected by windstorms, insects, disease and other damaging events. Salvage of the trees was expected to help provide forest products for local post and pole mills, small sawmills, and other forest product manufacturers.

Ensuring project design and development of action alternatives included incorporation of restrictive criteria such as avoiding resource areas of concern, old growth and riparian areas for instance, and mitigation measures such as timing salvage operations to take place during periods that minimized potential impacts to wildlife species of concern. The result of the project design for the proposed activities has led the project team to the conclusion that there will be no significant effects associated with the proposal, and therefore preparation of an environmental impact statement is not warranted. An environmental assessment will be prepared to document the proposed action, alternatives to the proposed action, and environmental consequences of implementing each of the alternatives.

Since an environmental assessment will be prepared instead of an environmental impact statement, the NOI is hereby rescinded.

Dated: January 24, 2003
Ranotta K. Mcnair,
Forest Supervisor.

[FR Doc. 03-2150 Filed 1-29-03; 8:45 am]

BILLING CODE 3410-11-M